NATIONAL SCIENCE FOUNDATION

Notice of Permit Applications Received under the Antarctic Conservation Act of 1978 (Pub. L. 95-541)

AGENCY: National Science Foundation.

ACTION: Notice of Permit Modification Received under the Antarctic Conservation Act of 1978, Public Law 95-541.

SUMMARY: The National Science Foundation (NSF) is required to publish a notice of requests to modify permits issued to conduct activities regulated under the Antarctic Conservation Act of 1978. NSF has published regulations under the Antarctic Conservation Act at Title 45 Part 670 of the Code of Federal Regulations. This is the required notice of a requested permit modification.

DATES: Interested parties are invited to submit written data, comments, or views with respect to this permit application by October 15, 2009. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

Description of Permit Modification Requested

The Foundation issued a permit (2008-016) to Dr. Robert Garrott on October 1, 2007. The issued permit allows the applicant to tag new pups born each year in the Erebus Bay and to weigh a sample of the pups at parturition, approximately 20 days old, and 35 days old as part of a study of the Interactions of Environmental Variability, Life History Traits, and Demography in an Apex Antarctic Predator. Based on data collected so far and field observations, it appears that moms vary a lot in how much time they spend in the water with their pups teaching them to swim, forage, evade aggressive encounters with other seals, etc. It is believed that the amount of time pups spend in the water influences their weight when weaned, and likely their ultimate probability of survival once weaned.

The applicant would like to temporarily deploy a small temperature logging tag on the pups when they are weighed at 1-2 days old and remove the tag when they are weighed at 35 days old. The applicant has identified a small (5 grams) commercially manufactured temperature logging unit that can be mounted on the flipper. Once the tag is removed, the archived data will be used to quantify the pup's swimming profile during the nursing period.

Location: McMurdo Sound.

Dates: October 2, 2009 to February 12, 2012.

Nadene G. Kennedy,
Permit Officer, Office of Polar Programs.

[FR Doc. E9-22083 Filed 9-14-09; 8:45 am]

BILLING CODE 7555-01-P